POSTAL REGULATORY COMMISSION

[Docket Nos. MC2025-907 and K2025-908; MC2025-908 and K2025-909; MC2025-909 and K2025-910; MC2025-911 and K2025-912; MC2025-912 and K2025-913; MC2025-913 and K2025-914; MC2025-916 and K2025-917; MC2025-917 and K2025-918; MC2025-918 and K2025-919; MC2025-929 and K2025-930; MC2025-930 and K2025-931; MC2025-931 and K2025-932; MC2025-932 and K2025-933; MC2025-933 and K2025-934; MC2025-934 and K2025-935;

MC2025-935 and K2025-936; MC2025-936 and K2025-937; MC2025-940 and K2025-941; MC2025-942 and K2025-943; MC2025-943 and K2025-944; MC2025-944 and K2025-945; MC2025-945 and K2025-946; MC2025-946 and K2025-947; MC2025-947 and K2025-948; MC2025-949 and K2025-949; MC2025-950 and K2025-950; MC2025-951 and K2025-951; MC2025-952 and K2025-952; MC2025-953 and K2025-953; MC2025-954 and K2025-954; MC2025-955 and K2025-955; MC2025-956 and K2025-956; MC2025-957 and K2025-957]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 31, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-907 and K2025-908; Filing Title: USPS Request to Add Priority Mail Express, Priority Mail & USPS Ground Advantage Contract 1126 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

2. Docket No(s).: MC2025-908 and K2025-909; Filing Title: USPS Request to Add Priority Mail Express, Priority Mail & USPS Ground Advantage Contract 1127 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

3. Docket No(s).: MC2025-909 and K2025-910; Filing Title: USPS Request to Add Priority Mail Express, Priority Mail & USPS Ground Advantage Contract 1128 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

4. Docket No(s).: MC2025-911 and K2025-912; Filing Title: USPS Request to Add Priority Mail Express, Priority Mail & USPS Ground Advantage Contract 1129 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

5. Docket No(s).: MC2025-912 and K2025-913; Filing Title: USPS Request to Add Priority Mail Express, Priority Mail & USPS Ground Advantage Contract 1130 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

6. Docket No(s).: MC2025-913 and K2025-914; Filing Title: USPS Request to Add Priority Mail & USPS Ground Advantage Contract 557 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

7. Docket No(s).: MC2025-916 and K2025-917; Filing Title: USPS Request to Add Priority Mail Express, Priority Mail & USPS Ground Advantage Contract 1133 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

8. Docket No(s).: MC2025-917 and K2025-918; Filing Title: USPS Request to Add Priority Mail Express, Priority Mail & USPS Ground Advantage Contract 1134 to the Competitive Product List and Notice of Filing Materials Under Seal; Filing Acceptance Date: December 19, 2024; Filing Authority: 39 U.S.C. 3642, 39 CFR 3035.105, and 39 CFR 3041.310; Public Representative: Almaroof Agoro; Comments Due: December 31, 2024.

9. Docket No(s).: MC2025-918 and K2025-919; Filing Title: USPS Request to Add Priority Mail Express, Priority Mail & USPS Ground Advantage Contract 1135 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

10. Docket No(s).: MC2025-929 and K2025-930; Filing Title: USPS Request to Add Priority Mail Express, Priority Mail & USPS Ground Advantage Contract 1144 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

11. Docket No(s).: MC2025-930 and K2025-931; Filing Title: USPS Request to Add Priority Mail Express, Priority Mail & USPS Ground Advantage Contract 1145 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

12. Docket No(s).: MC2025-931 and K2025-932; Filing Title: USPS Request to Add Priority Mail Express, Priority Mail & USPS Ground Advantage Contract 1146 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

13. Docket No(s).: MC2025-932 and K2025-933; Filing Title: USPS Request to Add Priority Mail Express, Priority Mail & USPS Ground Advantage Contract 1147 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

14. Docket No(s).: MC2025-933 and K2025-934; Filing Title: USPS Request to Add Priority Mail Express, Priority Mail & USPS Ground Advantage Contract 1148 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

15. Docket No(s).: MC2025-934 and K2025-935; Filing Title: USPS Request to Add Priority Mail Express, Priority Mail & USPS Ground Advantage Contract 1149 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

16. Docket No(s).: MC2025-935 and K2025-936; Filing Title: USPS Request to Add Priority Mail Express, Priority Mail & USPS Ground Advantage Contract 1150 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

17. Docket No(s).: MC2025-936 and K2025-937; Filing Title: USPS Request to Add Priority Mail Express, Priority Mail & USPS Ground Advantage Contract 1151 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

18. Docket No(s).: MC2025-940 and K2025-941; Filing Title: USPS Request to Add Priority Mail Express, Priority Mail & USPS Ground Advantage Contract 1155 to the Competitive Product List and Notice of Filing Materials Under Seal; Filing Acceptance Date: December 19, 2024; Filing Authority: 39 U.S.C. 3642, 39 CFR 3035.105, and 39 CFR 3041.310; Public Representative: Maxine Bradley; Comments Due: December 31, 2024.

19. Docket No(s).: MC2025-942 and K2025-943; Filing Title: USPS Request to Add Priority Mail Express, Priority Mail & USPS Ground Advantage Contract 1157 to the Competitive Product List and Notice of Filing Materials Under Seal; Filing Acceptance Date: December 19, 2024; Filing Authority: 39 U.S.C. 3642, 39 CFR 3035.105, and 39 CFR 3041.310; Public Representative: Maxine Bradley; Comments Due: December 31, 2024.

20. Docket No(s).: MC2025-943 and K2025-944; Filing Title: USPS Request to Add Priority Mail Express, Priority Mail & USPS Ground Advantage Contract 1158 to the Competitive Product List and Notice of Filing Materials Under Seal; Filing Acceptance Date: December 19, 2024; Filing Authority: 39 U.S.C. 3642, 39 CFR 3035.105, and 39 CFR 3041.310; Public Representative: Kenneth Moeller; Comments Due: December 31, 2024.

21. Docket No(s).: MC2025-944 and K2025-945; Filing Title: USPS Request to Add Priority Mail Express, Priority Mail & USPS Ground Advantage Contract 1159 to the Competitive Product List and Notice of Filing Materials Under Seal; Filing Acceptance Date: December 19, 2024; Filing Authority: 39 U.S.C. 3642, 39 CFR 3035.105, and 39 CFR 3041.310; Public Representative: Maxine Bradley; Comments Due: December 31, 2024.

22. Docket No(s).: MC2025-945 and K2025-946; Filing Title: USPS Request to Add Priority Mail Express, Priority Mail & USPS Ground Advantage Contract 1160 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

23. Docket No(s).: MC2025-946 and K2025-947; Filing Title: USPS Request to Add Priority Mail Express, Priority Mail & USPS Ground Advantage Contract 1161 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

24. Docket No(s).: MC2025-947 and K2025-948; Filing Title: USPS Request to Add Priority Mail Express, Priority Mail & USPS Ground Advantage Contract 1162 to the Competitive Product List and Notice of Filing Materials Under Seal; Filing Acceptance Date: December 19, 2024; Filing Authority: 39 U.S.C. 3642, 39 CFR 3035.105, and 39 CFR 3041.310; Public Representative: Maxine Bradley; Comments Due: December 31, 2024.

25. Docket No(s).: MC2025-949 and K2025-949; Filing Title: USPS Request to Add Priority Mail Express, Priority Mail & USPS Ground Advantage Contract 1163 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

26. Docket No(s).: MC2025-950 and K2025-950; Filing Title: USPS Request to Add Priority Mail Express, Priority Mail & USPS Ground Advantage Contract 1164 to the Competitive Product List and Notice of Filing Materials Under Seal; Filing Acceptance Date: December 19, 2024; Filing Authority: 39 U.S.C. 3642, 39 CFR 3035.105, and 39 CFR 3041.310; Public Representative: Maxine Bradley; Comments Due: December 31, 2024.

27. Docket No(s).: MC2025-951 and K2025-951; Filing Title: USPS Request to Add Priority Mail Express, Priority Mail & USPS Ground Advantage Contract 1165 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

28. Docket No(s).: MC2025-952 and K2025-952; Filing Title: USPS Request to Add Priority Mail Express, Priority Mail & USPS Ground Advantage Contract 1166 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

29. Docket No(s).: MC2025-953 and K2025-953; Filing Title: USPS Request to Add Priority Mail Express, Priority Mail & USPS Ground Advantage Contract 1167 to the Competitive Product List and Notice of Filing Materials Under Seal; Filing Acceptance Date: December 19, 2024; Filing Authority: 39 U.S.C. 3642, 39 CFR 3035.105, and 39 CFR 3041.310; Public Representative: Gregory Stanton; Comments Due: December 31, 2024.

30. Docket No(s).: MC2025-954 and K2025-954; Filing Title: USPS Request to Add Priority Mail Express, Priority Mail & USPS Ground Advantage Contract 1168 to the Competitive Product List and Notice of Filing Materials Under Seal; Filing Acceptance Date: December 19, 2024; Filing Authority: 39 U.S.C. 3642, 39 CFR 3035.105, and 39 CFR 3041.310; Public Representative: Katalin Clendenin; Comments Due: December 31, 2024.

31. Docket No(s).: MC2025-955 and K2025-955; Filing Title: USPS Request to Add Priority Mail Express, Priority Mail & USPS Ground Advantage Contract 1169 to the Competitive Product List and Notice of Filing Materials Under Seal; Filing Acceptance Date: December 19, 2024; Filing Authority: 39 U.S.C. 3642, 39 CFR 3035.105, and 39 CFR 3041.310; Public Representative: Katalin Clendenin; Comments Due: December 31, 2024.

32. Docket No(s).: MC2025-956 and K2025-956; Filing Title: USPS Request to Add Priority Mail Express, Priority Mail & USPS Ground Advantage Contract 1170 to the Competitive Product List and Notice of Filing Materials Under Seal; Filing Acceptance Date: December 19, 2024; Filing Authority: 39 U.S.C. 3642, 39 CFR 3035.105, and 39 CFR 3041.310; Public Representative: Katalin Clendenin; Comments Due: December 31, 2024.

33. Docket No(s).: MC2025-957 and K2025-957; Filing Title: USPS Request to Add Priority Mail & USPS Ground Advantage Contract 560 to the Competitive Product List and Notice of Filing Materials Under Seal; Filing Acceptance Date: December 19, 2024; Filing Authority: 39 U.S.C. 3642, 39 CFR 3035.105, and 39 CFR 3041.310; Public Representative: Katalin Clendenin; Comments Due: December 31, 2024.

III. Summary Proceeding(s)

None. See Section II for public proceedings.

This Notice will be published in the Federal Register.

Erica A. Barker,
Secretary.

[FR Doc. 2024-31313 Filed 12-27-24; 8:45 am]

BILLING CODE 7710-FW-P